DEPARTMENT OF LABOR

Office of the Secretary

Agency Information Collection Activities; Comment Request; Vendor Outreach Session Information Management System

ACTION: Notice.

SUMMARY: The Department of Labor (DOL) is soliciting comments concerning the information collections contained in the Vendor Outreach Session Information Management System.

DATES: Submit comments on or before May 9, 2011.

ADDRESSES: Contact Michel Smyth by telephone at 202-693-4129 (this is not a toll-free number) or via e-mail to DOL_PRA_PUBLIC@dol.gov to submit comments about or obtain a copy of this information collection request (ICR), with applicable supporting documentation; including a description of the likely respondents, proposed frequency of response, and estimated total burden.

SUPPLEMENTARY INFORMATION: I. Background: Federal agencies are required to promote procurement opportunities for small, small disadvantaged, and 8(a) businesses by the Small Business Act, as amended, (Pub. L. 95-507, sections 8 and 15) and Public Law 100-656 (sections 502 and 503). The Federal Acquisition Streamlining Act of 1994 (Pub. L. 103-355) mandates similar efforts for small women-owned businesses. Public Law 106-50 created the program for service-disabled veteran-owned small businesses. Public Law 105-135 established the HubZone program. The Small Business Regulatory Enforcement Fairness Act of 1996 (Pub. L. 104-121) requires Federal agencies to make available to small businesses compliance guides and assistance on the implementation of regulations and directives of enforcement laws they administer. Further, Executive Order 13170 requires that Departments take a number of actions to increase outreach and maximize participation of small disadvantaged businesses in their procurements. Executive Order 13157 strengthens the executive branch's commitment to increased opportunities for women-owned small businesses. Accordingly, the Vendor Outreach Session Information Management System is needed to gather, document, and manage identifying information for DOL constituency groups such as small businesses and trade associations. Via this system, the constituent groups have the opportunity voluntarily to provide information about their organizations to the DOL. The information is used by DOL agencies to maximize communication with the respective constituency groups regarding relevant DOL programs, initiatives, and procurement opportunities; to track and solicit feedback on customer service to group members; and to facilitate registration of group members for certain DOL-sponsored activities.

As part of its continuing effort to reduce paperwork and respondent burden, the DOL conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

II. Comment Solicitation: The DOL is soliciting comments concerning the information collections contained in the Vendor Outreach Session Information Management System. Comments submitted in response to this notice will be summarized and/or included in the request for Office of Management and Budget approval of the information collection request; they also will become a matter of public record.

III. Review Focus: The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and minimize the burden of the collection of information on those who are to respond, including through the use of appropriate automated, electronic, mechanical, or other technological collection techniques or other forms of information technology, e.g., permitting electronic submissions of responses.

IV Current Burden Summary: The estimated public burden associated with this collection of information is summarized below:

Type of Review: Revision of an existing information collection.

Agency: DOL—Office of the Assistant Secretary for Administration and Management.

Title: Vendor Outreach Session Information Management System.

OMB Control Number: 1290-0002.

Agency Form Number: None.

Affected Public: Private sector—businesses or other for-profits, not-for-profit institutions.

Estimated Total Annual Respondents: 500.

Estimated Total Annual Responses: 1000.

Frequency: On Occasion.

Estimated Average Time Per Response: 5-7 minutes.

Estimated Total Annual Burden Hours: 160 hours.

Total Burden Cost (capital/startup): $0.

Total Burden Cost (operating/maintenance): $0.

Signed: March 3, 2011.
Michel Smyth,
Departmental Clearance Officer.

[FR Doc. 2011-5241 Filed 3-7-11; 8:45 am]

BILLING CODE 4510-23-P